SOCIAL SECURITY ADMINISTRATION

[Docket No: SSA-2017-0031]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0031].

I. The information collection below is pending at SSA. SSA will submit it to OMB within 60 days from the date of this notice. To be sure we consider your comments, we must receive them no later than August 18, 2017. Individuals can obtain copies of the collection instrument by writing to the above email address.

Application for Search of Census Records for Proof of Age—20 CFR 404.716—0960-0097. When preferred evidence of age is not available, or the available evidence is not convincing, SSA may ask the U.S. Department of Commerce, Bureau of the Census, to search its records to establish a claimant's date of birth. SSA collects information from claimants using Form SSA-1535-U3 to provide the Census Bureau with sufficient identification information to allow an accurate search of census records. Additionally, the Census Bureau uses a completed, signed SSA-1535-U3 to bill SSA for the search. The respondents are applicants for Social Security benefits who need to establish their date of birth as a factor of entitlement.

Type of Request: Revision of an OMB-approved information collection.

Modality of completion | Number of respondents | Frequency of response | Average burden per response (minutes) | Estimated total annual burden (hours)
SSA-1535-U3 | 18,030 | 1 | 12 | 3,606

II. SSA submitted the information collections below to OMB for clearance. Your comments regarding these information collections would be most useful if OMB and SSA receive them 30 days from the date of this publication. To be sure we consider your comments, we must receive them no later than July 19, 2017. Individuals can obtain copies of the OMB clearance packages by writing to OR.Reports.Clearance@ssa.gov.

1. Statement Regarding Contributions—20 CFR 404.360-404.366 and 404.736—0960-0020. SSA uses the SSA-783 to collect information regarding a child's current sources of support when determining the child's entitlement to Social Security benefits. We request this information from adults acting on behalf of the child claimants who can provide SSA with any sources of support or substantial contributions for the child. These adults inform the claims representative as part of the initial benefits process. If the individual capable of providing the information does not accompany the child claimant, we mail the SSA-783 to the individual for completion, or if the person has access to a computer, we will refer them to SSA's Web site. The respondents are individuals providing information about a child's sources of support.

Type of Request: Revision of an OMB-approved information collection.

Modality of completion | Number of respondents | Frequency of response | Average burden per response (minutes) | Estimated total annual burden (hours)
SSA-783 | 30,000 | 1 | 17 | 8,500

2. Request for Waiver of Overpayment Recovery or Change in Repayment Notice—20 CFR 404.502-404.513, 404.515 and 20 CFR 416.550-416.570, 416.572—0960-0037. When Social Security beneficiaries and Supplemental Security Income (SSI) recipients receive an overpayment, they must return the extra money. These beneficiaries and recipients can use Form SSA-632-BK to take one of three actions: (1) Request an exemption from repaying, as recovery of the payment would cause financial hardship; (2) inform SSA they want to repay the overpayment at a monthly rate over a period longer than 36 months; or (3) request a different rate of recovery. In the latter two cases, the respondents must also provide financial information to help the agency determine how much the overpaid person can afford to repay each month. Respondents are overpaid beneficiaries or SSI recipients who are requesting: (1) A waiver of recovery of an overpayment, or (2) a lesser rate of withholding.

Type of Request: Revision of an OMB-approved information collection.

Modality of completion | Number of respondents | Frequency of response | Average burden per response (minutes) | Estimated total annual burden (hours)
Waiver of Overpayment (Completes Whole Paper Form) | 400,000 | 1 | 120 | 800,000
Change in Repayment (Completes Partial Paper Form) | 100,000 | 1 | 45 | 75,000
Regional Application (New York Debt Management) | 44,000 | 1 | 120 | 88,000
Internet Instructions | 500,000 | 1 | 5 | 41,667
Totals | 1,044,000 |  |  | 1,004,667

3. Teacher Questionnaire and Request for Administrative Information—20 CFR 404.1513, 416.913, and 416.924a(a)—0960-0646. When determining the effects of a child's impairment(s), SSA obtains information about the child's functioning from teachers; parents; and others who observe the child on a daily basis. SSA obtains results of formal testing, teacher reports, therapy progress notes, individualized education programs, and other records of a child's educational aptitude and achievement using Forms SSA-5665-BK and SSA-5666. The respondents are parents, teachers, and other education personnel.

Type of Request: Revision of an OMB-approved information collection.

Note: This is a correction Notice. When we published the first Notice at 82 FR 17494 on April 11, 2017, we included a line for the paper Form SSA-5665-BK; however, we no longer use the paper forms unless the electronic version is not available (which is why we estimated no use of the form in our previous published Notice). Therefore, we are removing that line from the burden chart here. This change does not change the burden we published in April.

Modality of completion | Number of respondents | Frequency of response | Average burden per response (minutes) | Estimated total annual burden (hours)
SSA-5665-BK | 293,375 | 1 | 40 | 195,583
SSA-5666 | 111,189 | 1 | 30 | 55,595
Totals | 404,564 |  |  | 251,178

4. Electronic Records Express—20 CFR 404.1512 and 416.912—0960-0753. Electronic Records Express (ERE) is a Web-based SSA program which allows medical and educational providers to electronically submit disability claimant data to SSA. Both medical providers and other third parties with connections to disability applicants or recipients (e.g., teachers and school administrators for child disability applicants) use this system once they complete the registration process. SSA employees and State agency employees request the medical and educational records collected through the ERE Web site. The agency uses the information collected through ERE to make a determination on an Application for Benefits. We also use the ERE Web site to order and receive consultative examinations when we are unable to collect enough medical records to determine disability findings. The respondents are medical providers who evaluate or treat disability claimants or recipients, and other third parties with connections to disability applicants or recipients (e.g., Teachers and school administrators for child disability applicants), who voluntarily choose to use ERE for submitting information.

Type of Request: Revision of an OMB-approved information collection.

Modality of completion | Number of respondents | Frequency of response | Average burden per response (minutes) | Estimated total annual burden (hours)
ERE | 5,376,998 | 1 | 10 | 896,166

5. Generic Clearance for the Collection of Qualitative Feedback on Agency Service Delivery—0960-0788. SSA, as part of our continuing effort to reduce paperwork and respondent burden, invites the general public to take this opportunity to comment on the “Generic Clearance for the Collection of Qualitative Feedback on Agency Service Delivery ” for approval under the Paperwork Reduction Act (PRA) (44 U.S.C. 3501 et. seq.). We developed this collection as part of a Federal Government-wide effort to streamline the process for seeking feedback from the public on service delivery. Under the auspices of Executive Order 12862, Setting Customer Service Standards, SSA conducts multiple satisfaction surveys each year. This proposed information collection activity provides a means to garner qualitative customer and stakeholder feedback in an efficient, timely manner, in accordance with SSA's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative, and actionable communications between SSA and our customers and stakeholders.

The solicitation of feedback will target areas such as: Timeliness; appropriateness; accuracy of information; courtesy; efficiency of service delivery; and resolution of issues with service delivery. We will assess responses to plan and inform efforts to improve or maintain the quality of service offered to the public. If we do not collect this information, we would not have access to vital feedback from customers and stakeholders on SSA's services.

We will only submit a collection for approval under this generic clearance if it meets the following conditions: (1) The collections are voluntary; (2) the collections are low-burden for respondents (based on considerations of total burden hours, total number of respondents, or burden-hours per respondent) and are low-cost for both the respondents and the Federal Government; (3) the collections are non-controversial and do not raise issues of concern to other Federal agencies; (4) any collection targeted to the solicitation of opinions from respondents who have experience with the program or may have experience with the program in the near future; (5) we collect personally identifiable information (PII) only to the extent necessary and we do not retain it; (6) we will use information gathered only internally for general service improvement and program management purposes and we will not release it outside of the agency; (7) we will not use information we gather for the purpose of substantially informing influential policy decisions; and (8) information we gather will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

The respondents are recipients of SSA services (including most members of the public), professionals, and individuals who work on behalf of SSA beneficiaries.

Type of Request: Extension of an OMB-approved information collection.

Affected Public: Individuals and households, businesses and organizations, State, Local or Tribal government.

Total Estimated Number of Respondents: 205,485.

Below we provide projected average estimates for the next three years:

Annual Respondents: 68,495.

Annual Responses: 68,495.

Frequency of Response: Once per request.

Average Minutes per Response: 18 minutes.

Estimated Annual Burden: 205,549 hours.

Dated: June 13, 2017.
Naomi R. Sipple,
Reports Clearance Officer, Social Security Administration.

[FR Doc. 2017-12580 Filed 6-16-17; 8:45 am]

BILLING CODE 4191-02-P